DEPARTMENT OF COMMERCE

National Oceanic and Atmospheric Administration

50 CFR Part 660

[Docket No. 180625576-8999-02]

RIN 0648-BJ43

Magnuson-Stevens Act Provisions; Fisheries Off West Coast States; Pacific Coast Groundfish Fishery; 2019-2020 Biennial Specifications and Management Measures; Inseason Adjustments; Correction

AGENCY: National Marine Fisheries Service (NMFS), National Oceanic and Atmospheric Administration (NOAA), Commerce.

ACTION: Final rule; correcting amendments.

SUMMARY: NMFS published a final rule on January 3, 2020 that made routine inseason adjustments to management measures in commercial groundfish fisheries. This action corrects publication errors in the trip limit tables for non-individual fishing quota (IFQ) species and limited entry fixed gear (LEFG) vessels that were implemented through the final rule.

DATES: Effective February 13, 2020.

FOR FURTHER INFORMATION CONTACT: Karen Palmigiano, NMFS West Coast Regional Office, telephone: 206-526-4491 or email: karen.palmigiano@noaa.gov.

SUPPLEMENTARY INFORMATION:

Electronic Access

This final rule is accessible via the internet at the Office of the Federal Register's website at http://www.gpoaccess.gov/fr/index.html. Background information and documents are available at the Pacific Fishery Management Council's (Council's) website at http://www.pcouncil.org/.

Background

NMFS published a final rule (85 FR 250; January 3, 2020), effective January 2, 2020, that made routine inseason adjustments to managements measures in commercial groundfish fisheries. The final rule implemented recommendations made by the Pacific Fishery Management Council (Council) at its November 14-20, 2019 meeting. These recommendations included adjustments to the trip limits for vessels in the limited entry fixed gear (LEFG) and open access (OA) fisheries that are targeting sablefish, lingcod, the Minor Slope rockfish complex and darkblotched rockfish, the Minor Nearshore Rockfish complex, deeper nearshore rockfish complex, and bocaccio for 2020, as well as adjustments to the Shorebased individual fishing quota (IFQ) Program fishery trip limits for big skate for 2020. After publication of the final rule, three publication errors were noted.

Need for Correction

Three corrections are needed so that the implementing regulations are accurate and implement the adjustments to management measures as intended by the Council and described in the preamble of the final rule (85 FR 250).

First, the implementing regulations on pages 257 and 258 of the final rule (85 FR 250; January 3, 2020) for Tables 1 (North) and (South) to part 660, subpart D, included formatting errors that inadvertently removed the label for the big skate trip limits leaving a trip limit in Line 10 of each table without a species label. This correction would update Line 10 of each of the tables to include the label of “Big Skate” for those trip limits.

Second, the implementing regulations on page 260, Table 2 (South) to part 660, subpart E, inadvertently omitted the Council's recommended decrease to the trip limit for LEFG vessels targeting sablefish between 40°10′ North latitude (N lat.) and 36° N lat. from “1,700 pounds (lb) (771 kilograms [kg]) per week, not to exceed 5,100 lb (2,313 kg) per two months” to “1,300 lb (560 kg) per week, not to exceed 3,900 (1,769 kg) per two months.” This correction would replace the current limit in Line 6 of Table 2 (South) with the new lower trip limit for LEFG vessels targeting sablefish between 40°10′ N lat. and 36° N lat consistent with the Council's intent and as described in the preamble to the final rule.

Lastly, the implementing regulations on 260, Table 2 (South) to part 660, subpart E, included a formatting error in Line 39 that inadvertently removed the label for the Pacific cod trip limit leaving a trip limit in Line 39 without a species label. This action would update Line 39 of Table 2 (South) to include the label of “Pacific Cod” for the trip limits on Line 39.

Classification

Pursuant to 5 U.S.C. 553(b)(B), the Assistant Administrator for Fisheries (AA) finds there is good cause to waive prior notice and an opportunity for public comment on this correction, as notice and comment would be unnecessary and contrary to public interest. Notice and comment are unnecessary and contrary to the public interest because this action corrects inadvertent errors in regulations made in the final rule published on January 3, 2020 (85 FR 250), and immediate notice of the error and correction is necessary to prevent confusion among participants in the fishery that could result in issues with reporting, recordkeeping, and enforcement. To effectively correct the errors, the changes in this action must go into effect upon publication. In addition, notice and comment is unnecessary because this action makes only minor changes to correct the final rule. The public, states and the Council are aware of the correct intent of the regulations through the Council's public process used to develop the final rule and had the opportunity to comment on these adjustments during public comment at the Council's November meeting. The preamble to the January 3, 2020, final rule also correctly describes the intent of the regulations. These corrections will not affect the results of analyses conducted to support management decisions in the Pacific Coast Groundfish fishery nor change any operating practices in the fishery.

For the same reasons stated above, the AA has determined that good cause exists to waive the 30-day delay in effectiveness pursuant to 5 U.S.C. 553(d). This notice makes only minor corrections to the final rule which was effective January 2, 2020. Delaying effectiveness of these corrections would result in conflicts in the regulations and confusion among fishery participants. Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This action is taken under the authority of 50 CFR 660.60(c) and is exempt from review under Executive Order 12866.

List of Subjects in 50 CFR Part 660

Fisheries, Fishing, and Indian Fisheries.

Dated: January 29, 2020.
Jennifer M. Wallace,
Acting Director, Office of Sustainable Fisheries, National Marine Fisheries Service.

For reasons explained in the preamble, 50 CFR part 660 is corrected by making the following correcting amendments:

PART 660—FISHERIES OFF WEST COAST STATES

1. The authority citation for part 660 continues to read as follows:

Authority: 16 U.S.C. 1801 et seq., 16 U.S.C. 773 et seq., and 16 U.S.C. 7001 et seq.

2. Tables 1 (North) and (South) to part 660, subpart D are corrected to read as follows:

* * * * *

2. Table 2 (South) to part 660, subpart E is corrected to read as follows:

* * * * *

[FR Doc. 2020-02044 Filed 2-12-20; 8:45 am]

BILLING CODE 3510-22-P